DEPARTMENT OF THE INTERIOR

National Park Service

[NPS-WASO-NAGPRA-NPS0036746; PPWOCRADN0-PCU00RP14.R50000]

Notice of Intent To Repatriate Cultural Items: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) intends to repatriate certain cultural items that meet the definition of unassociated funerary objects and that have a cultural affiliation with the Indian Tribes or Native Hawaiian organizations in this notice. The cultural items were removed from Ventura County, CA.

DATES: Repatriation of the cultural items in this notice may occur on or after November 13, 2023.

ADDRESSES: Patricia Capone, PMAE, Harvard University, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE. The National Park Service is not responsible for the determinations in this notice. Additional information on the determinations in this notice, including the results of consultation, can be found in the summary or related records held by the PMAE.

Description

The 76 cultural items were removed from San Nicolas Island in Ventura County, CA. In 1875, Paul Schumacher led a joint expedition on behalf of the Smithsonian Institution and the PMAE that included a visit to San Nicolas Island, where he excavated numerous burials. The human remains from these burials were sent to the Smithsonian Institution, but some funerary objects were sent to the PMAE. Museum documentation also indicates that Schumacher sold items he collected in the Channel Islands to private collectors.

In 1877, the PMAE acquired items from the Smithsonian Institution that were duplicate objects in their collection from Paul Schumacher's 1875 San Nicolas Island expedition. The cultural items collected on San Nicolas Island during that expedition were from funerary contexts.

In 1896, Dr. George J. Engelmann donated two cultural items to the PMAE that were acquired from Paul Schumacher's 1875 San Nicolas Island expedition. The items are known to have been collected by Schumacher because he wrote his name, the island of origin, and a catalog number on each item. Based on the original catalog numbers, it appears the objects were collected during the 1875 joint Smithsonian Institution-PMAE expedition. The date Engelmann acquired the cultural items from Schumacher is unknown.

In 1910, PMAE received objects as part of an exchange with the American Antiquarian Society, including one cultural item collected by Schumacher. Schumacher labeled the mortar with his name, the island of origin, and a catalog number. Based on the original catalog number, it appears the object was collected during the 1875 joint Smithsonian Institution-PMAE expedition. It is unknown when the American Antiquarian Society acquired the mortar.

The 76 unassociated funerary objects include 70 objects present in the Peabody Museum collections and six that are currently missing. The 70 present unassociated funerary objects are 36 stone mortars, 28 stone pestles, five worked stones, and one spindle whorl. The six missing unassociated funerary objects are three stone mortars and three stone pestles.

Cultural Affiliation

The cultural items in this notice are connected to one or more identifiable earlier groups, tribes, peoples, or cultures. There is a relationship of shared group identity between the identifiable earlier groups, tribes, peoples, or cultures and one or more Indian Tribes or Native Hawaiian organizations. The following types of evidence were used to reasonably trace the relationship: oral traditional, geographical, biological, and archeological.

The combined oral traditional, geographical, biological, and archeological evidence indicates that a relationship of shared group identity can be reasonably traced between these unassociated funerary objects from San Nicolas Island, Ventura County, CA, and the Indian Tribes identified in this notice.

Determinations

Pursuant to NAGPRA and its implementing regulations, and after consultation with the appropriate Indian Tribes and Native Hawaiian organizations, the PMAE has determined that:

• The 76 unassociated funerary objects described above are reasonably believed to have been placed with or near individual human remains at the time of death or later as part of the death rite or ceremony and are believed, by a preponderance of the evidence, to have been removed from specific burial sites of Native American individuals.

• There is a relationship of shared group identity that can be reasonably traced between the cultural items described in this notice and the La Jolla Band of Luiseno Indians, California; Pala Band of Mission Indians; Pauma Band of Luiseno Mission Indians of the Pauma & Yuima Reservation, California; Pechanga Band of Indians (Previously listed as Pechanga Band of Luiseno Mission Indians of the Pechanga Reservation, California); Rincon Band of Luiseno Indians (Previously listed as Rincon Band of Luiseno Mission Indians of Rincon Reservation, California); Santa Ynez Band of Chumash Mission Indians of the Santa Ynez Reservation, California; and the Soboba Band of Luiseno Indians, California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after November 13, 2023. If competing requests for repatriation are received, the PMAE must determine the most appropriate requestor prior to repatriation. Requests for joint repatriation of the cultural items are considered a single request and not competing requests. The PMAE is responsible for sending a copy of this notice to the Indian Tribes identified in this notice.

Authority: Native American Graves Protection and Repatriation Act, 25 U.S.C. 3003, and the implementing regulations, 43 CFR 10.8, 10.10, and 10.14.

Dated: October 10, 2023.
Melanie O'Brien,
Manager, National NAGPRA Program.

[FR Doc. 2023-22674 Filed 10-12-23; 8:45 am]

BILLING CODE 4312-52-P